DEPARTMENT OF DEFENSE

Department of the Navy

Notice of Intent To Grant Exclusive Patent License; Emerging Growth Enterprise LLC

AGENCY: Department of the Navy, DoD.

ACTION: Notice.

SUMMARY: The Department of the Navy hereby gives notice of its intent to grant Emerging Growth Enterprise LLC a revocable, nonassignable, exclusive license to practice in the field of fire fighting foam discharge and suppression testing systems in the United States and its territories, and North America for the Government-owned invention represented by U.S. Patents numbers 6,588,286 (Issued July 8, 2003), 6,615,675 (Issued September 9, 2003), 6,715,373 (Issued April 6, 2004), 6,739,174 (Issued May 25, 2004), and 7,290,457 (Issued November 6, 2007) and entitled, “Nofoam system for testing a foam delivery system on a vehicle”, No. 7,293,478 (Issued November 13, 2007) and entitled “Method for testing a foam delivery system on a vehicle”, and patent application numbers 13/372,755 and 13/372,712 and entitled “Foam Free Testing Systems and Methods.”

DATES: Anyone wishing to object to the grant of this license must file written objections along with supporting evidence, if any, not later than July 12, 2012.

ADDRESSES: Written objections are to be filed with the Naval Facilities Engineering Service Center, Code CI90, 1100 23rd Avenue, Port Hueneme, CA 93043-4370, attention: Kurt Buehler.

FOR FURTHER INFORMATION CONTACT: Kurt Buehler, Technology Transfer Office, Naval Facilities Engineering Service Center, Code CI90, 1100 23rd Avenue, Port Hueneme, CA 93043-4370, telephone 805-982-1225. Due to U.S. Postal delays, please fax 805-982-3481, email: kurt.buehler@navy.mil or use courier delivery to expedite response.

Authority: 35 U.S.C. 207, 37 CFR part 404.

Dated: June 14, 2012.
L.R. Almand,
Office of the Judge Advocate General, U.S. Navy, Alternate Federal Register Liaison Officer.

[FR Doc. 2012-15652 Filed 6-26-12; 8:45 am]

BILLING CODE 3810-FF-P